DEPARTMENT OF TRANSPORTATION

Federal Highway Administration

Environmental Impact Statement: Clay and Jackson Counties, Missouri

AGENCY: Federal Highway Administration (FHWA).

ACTION: Notice of intent.

SUMMARY: The FHWA is issuing this notice to advise the public that an environmental impact statement (EIS) will be prepared for proposed improvements to Interstates 29 & 35 in Kansas City and North Kansas City, Jackson and Clay Counties, Missouri.

FOR FURTHER INFORMATION CONTACT: Mr. Donald Neumann, Programs Engineer, FHWA Division Office, 209 Adams Street, Jefferson City, MO 65101, Telephone Number 573-636-7104; or Mr. Kevin Keith, Chief Engineer, Missouri Department of Transportation, P.O. Box 270, Jefferson City, MO 65102, Telephone Number 314-751-2803.

SUPPLEMENTARY INFORMATION: The FHWA, in cooperation with the Missouri Department of Transportation (MoDOT), will prepare an EIS on a proposal to reconstruct and widen the I-29/I-35 (U.S. Route 71) facility with new interchange configurations, bridges including the bridge over the Missouri River, and roadways in Jackson and Clay Counties, Missouri. It is intended that the reconstructed facility will meet current interstate standards. A location study will run concurrently with the preparations of the EIS and will provide definitive reasonable alternatives for evaluation in the EIS.

The proposed action will accomplish several goals: (1) Replace the deteriorating facility and substandard interchanges, (2) improve traffic safety, (3) improve the interstate system linkage across the Missouri River, (4) provide sufficient vehicle capacity to accommodate travel demands, (5) improve traffic operation and decrease congestion, (6) improve access to the CBD and other major activity centers, (7) facilitate the movement of trucks, and (8) enhance the movement of international trade.

The proposed project, which includes the north side of the downtown loop designated as I-35/I-70 (U.S. Routes 24/40), begins at the northwest corner of the downtown freeway loop in the city of Kansas City in Jackson County and continues north on I-29/I-35/US 71 to just north of Missouri Route 210 in Clay County. The project length is 4.7 miles (7.6 kilometers). Known potential impacts include access changes; residential, commercial, and institutional acquisitions/relocations; acquisition of or impacts to National Register of Historic Places—eligible properties including the Paseo Bridge, the Western Union Telegraph Building, and the Old Town and Wholesale Historic Districts; and impacts to parklands including the River Forest Park, Kessler Park, Columbus Park, Margaret Kemp Park, and West Terraces Park, which are eligible for protection under section 4(f) of the Department of Transportation Act of 1966. A Department of the Army Section 404 Permit, a US Coast Guard Bridge Permit, and a floodplain development permit from the State Emergency Management Agency may be required.

Alternatives under consideration include (1) no build, (2) build alternatives, and (3) transportation management options. The 2002 Northland-Downtown Major Investment Study (MIS) recommended widening and upgrading mainline lanes from US 169 to the Downtown Loop to generally provide an eight-lane section with auxiliary lanes as needed, including a new Paseo Bridge. The Kansas City Area Transportation Authority (KCATA) will examine the MIS transit recommendation in a separate environmental document.

To date, substantial preliminary coordination has occurred with local officials and other interested parties. As part of the scoping process, an interagency coordination meeting will be held with federal, state, and local agencies on May 12, 2004. In addition, public information meetings and further meetings for community officials will be held to solicit public and agency input on the reasonable range of alternatives. A location public hearing will be held to present the findings of the Draft EIS (DEIS). Public notice will be given announcing the time and place of all public meetings and the hearing. The DEIS will be available for public and agency review and comment prior to the public meeting.

To ensure that the full range of issues related to this proposed action are addressed and all significant issues are identified, comments and suggestions are invited from all interested parties. Comments and questions concerning this proposed action and the EIS should be directed to the FHWA or MoDOT at the addresses provided above.

(Catalog of Federal Domestic Assistance Program Number 20.205, Highway Planning and Construction. The regulations implementing Executive Order 122372 regarding intergovernmental consultation on Federal programs and activities apply to this program)

Issued on: April 21, 2004.
Donald L. Neumann,
Programs Engineer, Jefferson City.

[FR Doc. 04-9821 Filed 4-29-04; 8:45 am]

BILLING CODE 4910-22-M